DEPARTMENT OF THE INTERIOR

U.S. Geological Survey

[GX.16.CG00.GDQ03.00]

Agency Information Collection Activities: Request for Comments on the Yukon-Kuskokwim Delta Berry Outlook Survey

AGENCY: U.S. Geological Survey (USGS), Interior.

ACTION: Notice of a new information collection, Yukon-Kuskokwim Delta Berry Outlook.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before January 23, 2017.

ADDRESSES: Please submit written comments on this information collection directly to the Office of Management and Budget (OMB), Office of Information and Regulatory Affairs, Attention: Desk Officer for the Department of the Interior, via email: (OIRA_SUBMISSION@omb.eop.gov; identify your submission with `OMB Control Number 1028-NEW Yukon-Kuskokwim Delta Berry Outlook. Please also forward a copy of your comments and suggestions on this information collection to the Information Collection Clearance Officer, U.S. Geological Survey, gs-info_collections@usgs.gov (email). Please reference `OMB Information Collection 1028-NEW: Yukon-Kuskokwim Delta Berry Outlook in all correspondence.

FOR FURTHER INFORMATION CONTACT: Nicole Herman-Mercer, National Research Program, Central Branch, U.S. Geological Survey, Denver Federal Center, Mail Stop 418, Denver, CO 80225 (mail); 303-236-5031 (phone); or nhmercer@usgs.gov (email). You may also find information about this ICR at www.reginfo.gov.

SUPPLEMENTARY INFORMATION:

I. Abstract

The Yukon-Kuskokwim (YK) Delta Berry Outlook is a data and observer driven ecological monitoring and modeling framework that forecasts changes in berry habitat and abundance with climate and environmental change. In order to create a monitoring protocol and modeling framework we will solicit local knowledge of berry distribution and abundance from members of Yukon-Kuskokwim communities. Participants from the communities will take part in a survey that asks yes or no questions about the timing, abundance, and distribution of three types of berries that are important in their communities. Personally Identifiable Information (PII) will be limited to four elements: Names, phone numbers, emails, and the name of the village they reside in. This PII will be collected in order to communicate project results and solicit feedback on the project itself for evaluation purposes. Statistical analysis will be performed on survey responses in order to ascertain if a consensus exists among participants within villages and among villages. The survey results will be one source of data used to create a model forecasting changes in Tribal food sources.

The USGS mission is to serve the Nation by providing reliable scientific information to describe and understand the Earth. This project will collect information from individuals to better understand the abundance, distribution, and variability of berry resources in the Yukon-Kuskokwim Delta region of Alaska. The people of the YK delta rely on wild berries for a substantial portion of their diet and hold information about the long term distribution and abundance of berries that is useful for understanding current and future changes to berry habitat due to climate change impacts that will effect both human and wildlife populations of the Yukon Delta region and the Yukon Delta National Wildlife Refuge.

II. Data

OMB Control Number: 1028-NEW.

Title: Yukon-Kuskokwim Delta Berry Outlook.

Type of Request: Approval of new information collection.

Respondent Obligation: None, participation is voluntary.

Frequency of Collection: One time.

Description of Respondents: Individuals; Tribal members that reside in the villages of Chevak, Hooper Bay, Kotlik, and Emmonak, Alaska.

Estimated Total Number of Annual Responses: Forty.

Estimated Time per Response: We estimate that it will take two hours per person to complete the survey.

Estimated Annual Burden Hours: Eighty hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On June 14, 2016, we published a Federal Register notice (Vol. 81 FR 38733) announcing that we would submit this ICR to OMB for approval and soliciting comments. The comment period closed on August 13, 2016. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Lauren E. Hay,
Acting Branch Chief, National Research Program—Central Branch.

[FR Doc. 2016-30782 Filed 12-21-16; 8:45 am]

BILLING CODE 4338-11-P